DEPARTMENT OF HEALTH AND HUMAN SERVICES

Administration for Children and Families

[Program Notice No. ACF/ACYF/RHYP 2003-01]

Notice of Availability of Financial Assistance and Request for Applications for Runaway and Homeless Youth Program Grants

AGENCY: Administration on Children, Youth and Families, ACF, DHHS.

ACTION: Notice.

SUMMARY: This notice announces the availability of financial assistance and request for applications for the FY 2003 Basic Center Program for Runaway and Homeless Youth (BCP), FY 2003 Street Outreach Program (SOP), FY 2003 Positive Youth Development State and Local Collaboration Demonstration Projects (SLCDP) and FY 2004 Transitional Living Program (TLP).

The full official Program Announcement must be used to apply for grant funding under the competitive grant areas and is available by calling or writing the ACYF Operations Center at the address below: Educational Services, Inc., Attention: ACYF Operations Center, 1150 Connecticut Avenue, NW., Suite 1100, Washington, DC 20036. Telephone: 1-800-351-2293, Email: FYSB@esilsg.org; or by downloading the announcement from the FYSB Web site at http://www.acf.hhs.gov/programs/fysb.

DATES: The deadline date for mailed or hand delivered applications for all four grants under this announcement is: June 9, 2003.

The Catalog of Federal Domestic Assistance: Number 93.623, Basic Center Program and State and Local Collaboration Demonstration Project; Number 93.550, Transitional Living Program; and Number 93.557, Street Outreach Program.

Application Mailing and Delivery Instructions: Applications must be in hard copy, one signed original and two copies must be submitted. Mailed applications will be considered as meeting the announced deadline if they are postmarked on or before the published deadline date. Applications handcarried by applicants, applicant couriers, other representatives of the applicant, or by overnight/express mail couriers or any other method of hand delivery shall be considered as meeting an announced deadline date if they are received on or before the published deadline date, between the hours of 8 a.m. and 4:30 p.m., e.d.t., Monday through Friday (excluding Federal holidays), at the following address: Educational Services, Inc., Attention: ACYF Operations Center, 1150 Connecticut Avenue, NW., Suite 1100, Washington, DC 20036, telephone: 1-800-351-2293, Email: FYSB@esilsg.org.

This address must appear on the envelope/package containing the applications.

Applicants are responsible for mailing and delivering applications well in advance of deadlines to ensure that the applications are received on time. Applicants are cautioned that express/overnight mail service does not always deliver as agreed.

The Administration for Children and Families will not accept applications delivered by fax or e-mail regardless of date or time of submission and receipt.

Late Applications. Applications which do not meet the criteria stated above or are not received or postmarked by the deadline date are considered late applications. The Administration for Children and Families will notify each late applicant that its application will not be considered in the current competition.

Extension of Deadline. The Administration for Children and Families may extend an application deadline when circumstances such as acts of God (floods, hurricanes, etc.) occur; or when there are widespread disruptions of the mail service, or in other rare cases. A determination to waive or extend deadline requirements rests with the Chief Grants Management Officer.

FOR FURTHER INFORMATION CONTACT: ACYF Operations Center at the address and telephone number above, or for program information contact: Dorothy Pittard, Youth Services Program Specialist, Administration for Children and Families, Family and Youth Services Bureau, 330 C Street, SW., Washington, DC 20447. (202)205-8102.

Background on Runaway and Homeless Youth and Positive Youth Development

The Family and Youth Services Bureau (FYSB), within the Administration for Children and Families (ACF), administers programs that provide services to an adolescent population of runaway, homeless, and street youth. This population is estimated at 1.5 million youth. Many of these youth have left home to escape abusive situations or because they were not provided with their basic needs for food, shelter, and a safe, supportive environment. Many live on the streets or away from home without parental supervision and are highly vulnerable. They may be exploited by dealers of illegal drugs, or become victims of street violence or members of gangs which provide protection and a sense of extended family. They may be drawn into shoplifting, survival sex or dealing drugs in order to earn money for food, shelter, clothing and other daily expenses. They often drop out of school, forfeiting their opportunities to learn and to become independent, self-sufficient, contributing members of society.

On the street, these youth may try to survive with little or no contact with medical professionals, the result being that health problems may go untreated and worsen. Without the support of family, schools and other community institutions, they may not acquire the personal values and work skills that will enable them to enter or advance in the world of work. Furthermore, while on the streets, unsheltered youth may create challenges for law enforcement and put themselves in danger. This situation calls for a community-based positive youth development approach to address the needs of runaway, homeless and street youth.

The Family and Youth Services Bureau has worked to promote a positive youth development framework for all FYSB activities. This approach, which is asset-based rather than problem-focused, is intended for policy and program developers, program managers, youth services professionals, and others who care about young people. It intends to enhance capacity to develop service models and approaches that direct youth toward positive pathways of development. The positive youth development approach is predicated on the understanding that all young people need support, guidance, and opportunities during adolescence, a time of rapid growth and change. With this support, they can develop self-assurance and create a healthy, successful life.

Key elements of positive youth development are:

• Healthy messages to adolescents about their bodies, their behaviors and their interactions;

• Safe and structured places for teens to study, recreate, and socialize;

• Strengthened relationships with adult role models, such as parents, mentors, coaches or community leaders;

• Skill development in literacy, competence, work readiness and social skills; and

• Opportunities to serve others and build self-esteem.

If these factors are being addressed, young people can become not just “problem free” but “fully-prepared” and engaged constructively in their communities and society.

Positive developmental opportunities should be available to all young people during adolescence. Adolescents need opportunities to fulfill their developmental needs—intellectually, psychologically, socially, morally and ethically. Youth benefit from experiential learning and they need to belong to a group while maintaining their individuality. At the same time they want and need support and interest from caring adults. They also need opportunities to express opinions, challenge adult assumptions, develop the ability to make appropriate choices, and learn to use new skills, including leadership.

These key elements result in the following outcomes:

• Increased opportunities and avenues for the positive use of time;

• Increased opportunities for positive self-expression;

• Increased opportunities for youth participation and civic engagement.

It is FYSB's hope and expectation that awareness of this positive youth development approach and its importance for serving youth will increase. The FYSB publications, Understanding Youth Development: Promoting Positive Pathways of Growth, The National Youth Summit: Summit Themes and A Strategy for Action and Reconnecting Youth and Community: A Youth Development Approach, are widely distributed as source documents for positive youth development concepts and applications. Both are currently available from the National Clearinghouse on Families and Youth (NCFY) at http://www.ncfy.com (301-608-8098). Additionally, a recent Statement of Principles for Positive Youth Development, endorsed by a broad range of agencies, institutions and organizations, may be found in the brochure: Toward A Blueprint For Youth: Making Positive Youth Development A National Priority. Multiple copies of this resource are available from NCFY or it can be found online at http://www.acf.hhs.gov/programs/fysb.

Applicants must agree to cooperate with any research or evaluation efforts sponsored by the Administration for Children and Families and to submit the required Annual Report to the Secretary of DHHS on program activities and accomplishments with statistical summaries and other required program and financial reports, as instructed by FYSB.

Legislative Authority: Grants for Runaway and Homeless Youth programs are authorized by the Runaway and Homeless Youth Act (title III of the Juvenile Justice and Delinquency Prevention Act of 1974), as amended by the Missing, Exploited, and Runaway Children Protection Act of 1999, (Pub. L. 106-71). Text of this statute may be found at http://www.acf.hhs.gov/programs/fysb.

Project and Budget Periods. This announcement is inviting applications for project periods up to three to five years. Awards, on a competitive basis, will be for a one-year budget period, although project periods may be for three to five years. Applications for continuation grants funded under these awards beyond the one-year budget period but within the three- to five-year project period will be entertained in subsequent years on a noncompetitive basis, subject to availability of funds, satisfactory progress of the grantee and a determination that continued funding would be in the best interest of the government.

SUPPLEMENTARY INFORMATION: Grant awards for FY 2003 funds will be made by September 30, 2003, for the Basic Center Program, Street Outreach Program and Positive Youth Development State and Local Collaboration Demonstration Projects. Transitional Living Program grant awards for FY 2004 will be made after September 30, 2003.

The estimated funds available for new starts and the approximate number of new grants that may be awarded under this program announcement are as follows:

Competitive grant area | New start grants funds available | Estimated Number of new grants
A. BCP | Up to $12,300,000 | Up to 100.
B. TLP | Up to $7,900,000 | Up to 42.
C. SOP | Up to $4,600,000 | uup to 46.
D. SLCDP | Up to $1,500,000 | Up to 13.

In addition to the new start grants, the Administration for Children and Families has provided for noncompetitive continuation funds to current grantees in the following programs:

Grant area | Noncompetitive continuation funds | Number of grants
A. BCP | Up to $31,400,000 | Up to 265.
B. TLP | Up to $27,800,000 | Up to 149.
C. SOP | Up to $8,900,000 | Up to 91.
D. SLCDP | $ -0- | 0

Part I. Commpetitive Grant Areas and Summaries of Evaluation Criteria

A. Basic Center Program (Competitive Grant Area A, CFDA# 93.623)

Program Purpose, Goals and Objectives: The purpose of part A of the RHY Act is to establish or strengthen locally-controlled, community-based programs that address the immediate needs of runaway and homeless youth and their families. Services must be delivered outside of the law enforcement, child welfare, mental health and juvenile justice systems. The program goals and objectives of the Basic Center Program of part A of the RHY Act are to:

• Alleviate problems of runaway and homeless youth;

• Reunite youth with their families and encourage the resolution of intra-family problems through counseling and other services;

• Strengthen family relationships and encourage stable living conditions for youth; and

• Help youth decide upon constructive courses of action.

Background: The Runaway and Homeless Youth Act of 1974 was a response to widespread concern regarding the alarming number of youth who were leaving home without parental permission, crossing State lines and who, while away from home, were exposed to exploitation and other dangers of street life.

Each Basic Center program is required to provide outreach to runaway and homeless youth; temporary shelter for up to fifteen (15) days; food; clothing; individual, group and family counseling; aftercare and referrals, as appropriate. Basic Center programs are required to provide their services in residential settings for at least four (4) youth and no more than twenty (20) youth. Some programs also provide some or all of their shelter services through host homes (usually private homes under contract to the centers), with counseling and referrals being provided from a central location. Basic Center programs shelter youth at risk of separation from the family who are less than 18 years of age, and who have a history of running away from the family. Basic Centers must provide age appropriate services or referrals for homeless youth ages 18-21.

The primary presenting problems of youth who receive shelter and non-shelter services through FYSB-funded Basic Centers include: (1) Family conflicts; (2) physical, sexual and emotional abuse; (3) divorce, death, or sudden loss of income; and (4) personal problems such as drug use, problems with peers, school attendance and truancy, bad grades, inability to get along with teachers and learning disabilities.

Eligible Applicants

• Public agencies—any State, unit of local government, Indian tribes and tribal organizations, and/or combinations of such units;

• Private nonprofit agencies; and

• Community-based and faith-based organizations.

Current Basic Center grantees with project periods ending on or before September 29, 2003, and all other eligible applicants not currently receiving Basic Center funds may apply for a new competitive Basic Center grant under this announcement.

Current Basic Center Program grantees (including subgrantees) with one or two years remaining on their current grant and the expectation of continuation funding in FY 2003 may not apply for a new Basic Center grant for the community they currently serve. These grantees will receive instructions from their respective ACF Runaway and Homeless Youth (RHY) Regional Office contacts on the procedures for applying for noncompetitive continuation grants. Current grantees that have questions regarding their eligibility to apply for new funds, should consult with the appropriate Regional Office Youth Contact, listed in part V, Appendix B, of the full official Program Announcement to determine if they are eligible to apply for a new grant award.

Funding: Depending on the availability of funds, the Family and Youth Services Bureau expects to award up to $12,300,000 for up to 100 new competitive Basic Center Program grants. In accordance with the RHY Act, the funds will be divided among the States in proportion to their respective populations under the age of 18, according to the latest census data. A minimum of $100,000 will be awarded to each State, the District of Columbia and Puerto Rico. A minimum of $45,000 will be awarded to each of the four insular areas: Guam, American Samoa, the Commonwealth of the Northern Marianas and the Virgin Islands.

The funds available for continuations and new starts in each State and insular area are listed in the Table of Allocations by State (part V, Appendix D) located in the full official program announcement. In this Table, the amounts shown in the column labeled “New Starts” are the amounts available for competition under this announcement. The number of new awards made within each State depends upon the amount of the State's total allotment less the amount required for non-competing continuations, as well as on the number of acceptable applications. Therefore, where the amount required for noncompeting continuations in any State equals or exceeds the State's total allotment, it is possible that no new awards will be made. However, agencies in the States where zero funding is reflected on the BCP Table of Allocation are highly encouraged to apply for grant funding in the event that additional funding becomes available.

All applicants under this competitive grant area will compete with other eligible applicants in the State in which they propose to deliver services. In the event that there are insufficient numbers of applications approved for funding in any State or jurisdiction, the Commissioner of ACYF will reallocate the unused funds to other Basic Center Program applicants.

Federal Share of Project Costs: Applicants may apply for up to $200,000 per year which equals a maximum of $600,000 for a 3-year project period.

Applicant Share of Project Costs: The applicant must provide a non-Federal share or match of at least ten percent (10%) of the Federal funds awarded. (There may be certain exceptions for Tribes with “638” funding pursuant to Public Law 93-638, under which certain Federal grants may qualify as matching funds for other Federal grant programs, e.g., those which contribute to the purposes for which grants under section 638 were made.) The non-Federal share may be met by cash or in-kind contributions, although applicants are encouraged to meet their match requirements through cash contributions. Therefore, a three-year project costing $600,000 in Federal funds (based on an award of $200,000 per 12-month budget period) must provide a match of at least $60,000 ($20,000 per budget period). Grantees will be held accountable for commitments of required non-Federal funds. Failure to provide the required match will result in a disallowance of Federal funds.

Duration of Project: This announcement solicits applications for Basic Center programs of up to three years duration (36-month project periods). Initial grant awards, made on a competitive basis, will be for one-year (12-month) budget periods. Applications for noncompetitive continuation grants beyond the one-year budget periods, but within the 36-month project periods, will be entertained in subsequent years, subject to the availability of funds, satisfactory progress of the grantee and determination that continued funding would be in the best interest of the government.

B. Transitional Living Program (Competitive Grant Area B, CFDA#93.550)

Program Purpose, Goals and Objectives: The overall purpose of the Transitional Living Program (TLP) for homeless youth is to establish and operate transitional living programs for homeless youth. This program is structured to help older, homeless youth achieve self-sufficiency and avoid long-term dependency on social services. Transitional living programs provide shelter, skills training, and support services to homeless youth ages 16 through 21 for a continuous period not exceeding 18 months.

Transitional Living Programs are required to provide services in residential settings for at least four (4) youth and no more than twenty (20) youth. Transitional Living Program funds are to be used for the purpose of enhancing the capacities of youth-serving agencies in local communities to effectively address the service needs of homeless, older adolescents and young adults, including pregnant and parenting homeless youth. Goals, objectives and activities that may be maintained, improved and/or expanded through a TLP grant must include, but are not necessarily limited to:

• Providing stable, safe living accommodations while a homeless youth is a program participant;

• Providing the services necessary to assist homeless youth in developing both the skills and personal characteristics needed to enable them to live independently;

• Providing education, information and counseling aimed at preventing, treating and reducing substance abuse among homeless youth;

• Providing homeless youth with appropriate referrals and access to medical and mental health treatment;

• Providing the services and referrals necessary to assist youth in preparing for and obtaining employment;

• Providing the services and referrals necessary to assist youth in preparing for and obtaining secondary, and where feasible, post-secondary education and/or vocational training; and

• Providing the services and referrals necessary to assist pregnant and parenting homeless youth with the skills and knowledge necessary to become a more effective parent and lead productive and independent lives.

Background: It is estimated that about one-fourth of the youth served by all runaway and homeless youth programs are homeless. This means that the youth cannot return home or to another safe living arrangement with a relative. Other homeless youth have “aged out” of the child welfare system and are no longer eligible for foster care.

These young people are often homeless through no fault of their own. The families they can no longer live with are often physically and sexually abusive and involved in drug and alcohol abuse. They cannot meet the youth's basic human needs (shelter, food, clothing), let alone provide the supportive and safe environment needed for the healthy development of self-image and the skills and personal characteristics which would enable them to mature into a self-sufficient adult.

Homeless youth, lacking a stable family environment and without social and economic supports, are also at high risk of being involved in dangerous lifestyles and problematic or delinquent behaviors. More than two-thirds of homeless youth served by ACF-funded programs report using drugs or alcohol and many participate in survival sex and prostitution to meet their basic needs.

Homeless youth are in need of a support system that will assist them in making the transition to adulthood and independent living. While all adolescents are faced with adjustment issues as they approach adulthood, homeless youth experience more severe problems and are at greater risk in terms of their ability to successfully make the transition to self-sufficiency and to become a productive member of society.

Pregnant and parenting homeless youth are likely to face poverty, low levels of educational attainment, and long-term dependence on public assistance. Research indicates that children of teenage mothers are more likely to be born prematurely and to be of low birth weight than children born to women who are older. Compared to children born to older women, children of adolescent mothers, in general, do not do as well in school, have higher reported incidences of abuse and neglect, have higher rates of foster care placement, and are more apt to run away from home. As these children get older, the boys are 2.7 times more likely to be involved in criminal behavior, and the girls are 33 percent more likely to become teenage mothers themselves, increasing the likelihood that they will rely on public assistance.

The Transitional Living Program for Homeless Youth specifically targets services to homeless youth and affords youth service agencies with an opportunity to serve homeless youth in a manner which is comprehensive and geared towards ensuring a successful transition to self-sufficiency. The TLP also improves the availability of comprehensive, integrated services for homeless youth, which reduces the risks of exploitation and danger to which these youth are exposed while living on the streets without positive economic or social supports.

Eligible Applicant

• Public agencies—any State, unit of local government, Indian tribes and tribal organizations, and/or combinations of such units;

• Private nonprofit agencies; and

• Community-based and faith-based organizations.

Current TLP grantees (including subgrantees) with project periods ending on or after September 30, 2003, and all other eligible applicants not currently receiving TLP funds may apply for a new competitive TLP grant under this announcement for awards in FY 2004.

Current TLP grantees (including subgrantees) with one or two years remaining on their current awards and the expectation of continuation funding in Fiscal Year 2003 may not apply for a new TLP grant under this announcement. These grantees will receive instructions from their respective Administration on Children and Families (ACF) Regional Office Youth Contact on the procedures for applying for non-competitive continuation grants. Current grantees, which have questions regarding their eligibility to apply for new funds, should consult with the appropriate Regional Office Runaway and Homeless Youth Contact, listed in part V, appendix B, of the full official Program Announcement to determine if they are eligible to apply for a new grant award.

Funding: Depending on the availability of funds, the Family and Youth Services Bureau expects to award up to $7,900,000 for up to 42 new competitive Transitional Living Program grants for fiscal year 2004. The funding is to provide shelter, skill training and support services to assist homeless youth, including pregnant and parenting youth, in making a smooth transition to self-sufficiency and to prevent long-term dependency on social services.

Federal Share of Project Costs: Applicants may apply for up to $200,000 per year, which equals a maximum of $1,000,000 for a 5-year project period.

Applicant Share of Project Cost: Transitional Living grantees must provide a non-Federal share or match of at least ten percent (10%) of the Federal funds awarded. (There may be certain exceptions for Tribes with “638” funding pursuant to Public Law 93-638, under which certain Federal grants funds may qualify as matching funds for other Federal grant programs, e.g., those which contribute to the same purposes for which grants under section 638 are made.) The non-Federal share may be met by cash or in-kind contributions, although applicants are encouraged to meet their match requirements through cash contributions. Therefore, a five-year project costing $1,000,000 in Federal funds (based on an award of $200,000 per 12-month budget period) must include a match of at least $100,000 ($20,000 per budget period). Grantees will be held accountable for commitments of required non-Federal funds. Failure to provide the required match will result in a disallowance of Federal funds.

Duration of Project: This announcement solicits applications for Transitional Living projects of up to five years (60-month project periods). Initial grant awards, made on a competitive basis, will be for one-year (12-month) budget periods. Applications for noncompeting continuation grants beyond the one-year budget periods, but within the 60-month project periods, will be entertained in subsequent years, subject to the availability of funds, satisfactory progress of the grantee and determination that continued funding would be in the best interest of the government.

C. Street Outreach Program (Competitive Grant Area C, CFDA #93.557)

Program Purpose, Goals and Objectives: The overall purpose of SOP is to provide education and prevention services to runaway, homeless and street youth who have been subjected to or are at risk of sexual exploitation or abuse. The goal of the program is to establish and build relationships between street youth and program outreach staff in order to help youth leave the streets. The objective of the program is to provide support services that will assist the youth in moving and adjusting to a safe and appropriate alternative living arrangement. These services include, at a minimum, treatment, counseling, and provision of information and referral services. Street outreach programs must have access to local emergency shelter space that is an appropriate placement for young people and that can be made available for youth willing to come in off the streets. In addition, street outreach staff must have access to the shelter in order to maintain interaction with the youth during the time they are in the shelter.

Background: In response to the needs of street youth who are subjected to or at risk of sexual exploitation or abuse, Congress amended the Runaway and Homeless Youth Act by authorizing the Education and Prevention Services to Reduce Sexual Abuse of Runaway, Homeless and Street Youth Program under the Violent Crime Control and Law Enforcement Act of 1994. This program is referred to as the Street Outreach Program (SOP) for Runaway, Homeless and Street Youth.

The array of social, emotional and health problems faced by youth on the street is dramatically compounded by the incidence of sexual exploitation and/or abuse. Street youth are victimized by strangers as well as by individuals known to the youth, and a significant number of homeless youth are exploited as they participate in survival sex to meet their basic needs for food and shelter. Because of these issues, sexually exploited youth often need more intensive services. Youth must be afforded the opportunity to slowly build trust relationships with caring and responsible adults as the first step to successfully encouraging them to leave the streets.

Eligible Applicants

• Private nonprofit agencies; and

• Community-based and faith-based organizations.

Note: Public agencies are NOT eligible to apply for these funds.

Current Street Outreach Program grantees with project periods ending on or before September 29, 2003, and all other eligible applicants not currently receiving SOP funds may apply for a new competitive SOP grant under this announcement.

Current Street Outreach Program grantees (including subgrantees) with one or two years remaining on their current grant and the expectation of continuation funding in FY 2003 may not apply for a new Street Outreach grant for the community they currently serve. These grantees will receive instructions from their respective ACF Regional Offices on the procedures for applying for continuation grants. Current grantees, which have questions regarding their eligibility to apply for new funds, should consult with the appropriate Regional Office Youth Contact, listed in part V, appendix B, located in the full official program announcement to determine if they are eligible to apply for a new grant award.

Funding: Depending on the availability of funds the Family and Youth Services Bureau expects to award up to $4,600,000 for up to 46 new competitive Street Outreach Program grants for street-based outreach and education.

Federal Share of Project Costs: Applicants may apply for up to $200,000 in Federal support each year, a maximum of $600,000 for a 3-year project period. The maximum Federal share of project costs is $200,000 for 12 months.

Applicant Share of Project Cost: Street Outreach grantees must provide a non-Federal share or match of at least ten percent (10%) of the Federal funds awarded. The non-Federal share may be met by cash or in-kind contributions, although applicants are encouraged to meet their match requirements through cash contributions. Therefore, a three-year project costing $600,000 in Federal funds (based on an award of $200,000 per 12-month budget period) must provide a match of at least $60,000 ($20,000 per budget period). Grantees will be held accountable for commitments of required non-Federal funds. Failure to provide the required match will result in a disallowance of Federal funds.

Duration of Project: This announcement solicits applications for Street Outreach Program projects of up to three years (36-month project periods). Initial grant awards, made on a competitive basis, will be for one-year (12-month) budget periods. Applications for noncompeting continuation grants beyond the one-year budget periods, but within the 36-month project periods, will be considered subject to the availability of funds, satisfactory progress of the grantee and determination that continued funding would be in the best interest of the government.

D. Positive Youth Development State and Local Collabortion Demonstration Projects (Competitive Grant Area D, CFDA #93.623)

Program Purpose, Goals and Objectives: This demonstration represents a continuation of the investment FYSB has made to sponsor collaborative approaches to positive youth development in the 13 States over the past several years. Under the Youth Development State Collaboration Demonstration projects the focus was on establishing partnerships and collaborative efforts particularly among State-level agencies and actors. Projects solicited in this announcement are specifically aimed at moving the earlier State-level successes to the level of local community jurisdictions (and/or tribes). Specifically, these project grants are intended to support collaboration between State governments and local community jurisdictions or tribes. States may propose a program of joint cooperation between a tribe and another local jurisdiction.

At least one operating RHY program must be in the local community jurisdiction or Tribe selected by the State government for the joint collaboration demonstration project in order to:

• Continue the earlier FYSB-funded efforts to promote the positive development of youth, and

• Pilot test an effort to extend that work down to the level of local communities.

As such, the goals of the Positive Youth Development State and Local Collaboration Demonstration Projects are: (1) To encourage collaboration among the State and Local (or Tribal) agencies and communities that will increase opportunities for positive youth development for young people in local communities and neighborhoods; (2) to promote and facilitate communication and cooperation between the State, local communities and youth serving agencies, including FYSB RHY Program grantees, in addressing the needs and issues of adolescents and young adults; (3) to encourage an ongoing community presence and participation in the planning and execution of strategies aimed at the positive development of their young people; (4) and to energize local constituencies including residents, community and faith-based organizations and service providers around a positive youth development agenda.

The overarching aim of these pilot efforts will be to help States to explore new collaborative relationships with local communities that will prove effective in increasing the number and array of positive development opportunities available to young people. Beginning a dialogue with the participating local community or Tribe, and sustaining their ongoing involvement and participation in this collaboration, will be viewed as critical to effectiveness of the demonstration's collaboration and to its efforts to pursue the programmatic objectives (see below) outlined for this demonstration. As such, this community involvement is stressed throughout this announcement.

The SLCDP Demonstration Project is focused on increasing opportunities for positive youth development in local jurisdictions and communities. Funded projects in this demonstration will be based on collaborative program designs that emphasize each of the following three major programmatic objectives for fostering positive youth development and positive youth outcomes.

• Increased opportunities and avenues for the positive use of time including: Recreational activities, organized sports, educational and personal enrichment, volunteerism and/or age-appropriate employment. (Safe places with structured activities during non-school hours; marketable skills through effective education; ongoing relationships with caring adults-parents, mentors, tutors, or coaches.)

• Increased opportunities for positive self-expression: Higher emphasis on helping young people identify and develop their strengths and talents and to exercise them in positive ways where they can be recognized and celebrated by the larger community of young people and adults. (Healthy start and future.)

• Increased opportunities for youth participation and civic engagement: Efforts to provide youth with opportunities to participate in school and community affairs and to be represented among the actors and within the institutions that constitute the political, social and economic infrastructure of their school, community, city and region. (Opportunities to give back through community service.)

These project grants will serve as the basis for exploring new partnerships among the Family and Youth Services Bureau (FYSB), States, local jurisdictions and/or Tribes, and community and faith-based, youth serving organizations in order to establish and support these programmatic objectives at the State and local community levels.

The demonstration will be conducted in two phases:

• Phase I, the Planning Phase will begin on September 30, 2003, through September 29, 2004, and will consist of the first 12 months of the grant.

• Phase II, the Implementation Phase will begin September 30, 2004, and will continue for the remaining four years ending on September 29, 2008.

The Planning Phase: The demonstration will begin with a one-year planning phase. State grantees will use this phase to accomplish three specific formative goals that will shape the 4-year implementation effort: (1) Identify and secure commitment(s) from the local jurisdiction and/or Tribe, and the RHY Programs that will be the collaborating partners during the implementation phase; (2) conduct a collaborative planning process focusing on strategies for pursuing the three programmatic objectives set forth (above) for the demonstration; and (3) review and finalize the proposed plans for implementation with FYSB:

• Select the Local Partner: The first three months (1-3) of the planning phase will be used to identify a local jurisdiction (or Tribe)—city, community or neighborhood—that is willing and able to assume the role of local partner in this demonstration. The product of this first three-month period will be a Memorandum of Understanding (MOU) between the applicant and the organization/entity assuming the lead role, as the local collaboration partner, committing each of the parties to participate in the 5-year FYSB funded SLCDP Demonstration Project.

• Draft the Plan: The next six months (4-9) of the planning phase will be used to conduct the outreach, convene the meetings, and engage the deliberations that are necessary to produce a plan outlining proposed directions for pursuing each of the three youth development programmatic objectives outlined above.

• Finalize the Plan: The final three months (10-12) will be a period of dialogue and negotiations with FYSB representatives to refine and further develop these plans and preliminary directions into an approved plan and budget for implementing the 4-year implementation collaborative effort.

The Implementation Phase: FYSB plans to fund four years of State/local operation under the approved plan. Continuation funding will be based on availability of funds and satisfactory progress made during the first year Planning Phase. It is expected that operations under the grant will feature adherence to the three youth development programmatic objectives outlined above as well as the following:

• Continued and ongoing high level collaboration among a consistent group of State, local and RHY program representatives of the project.

• Involvement of parents, guardians, other caring adults and youth in all phases of development and implementation of the youth development strategies.

• Ongoing dialogue, communications and participation with and among residents from the neighborhoods and communities targeted by the effort.

Background: For a number of years, FYSB has been promoting a youth development philosophy and has produced a framework for implementing a positive youth development approach. The framework can be used by program developers, program managers and youth service professionals in developing and implementing service models and approaches that will redirect youth in high risk situations toward positive pathways of development. We have identified four key principles that are important in the development of young people as they move toward a successful and productive adulthood: (1) A sense of industry and competency, (2) a feeling of connectedness to others (particularly to caring adults, especially parents), and to society, (3) a belief in their control over their fate in life, and (4) a stable identity.

FYSB supports the youth development approach and believes it is crucial that positive developmental opportunities be made available to all young people during adolescence, a time of rapid growth and change. Adolescents need opportunities to fulfill their developmental needs; intellectually, psychologically, socially, morally and ethically. Youth benefit from experiential learning and they need to belong to a group while maintaining their individuality. At the same time, they want and need adult support and interest. They also need to express opinions, challenge adult assumptions, develop the ability to make appropriate choices and learn to use new skills.

When young people are not given positive outlets for growth, they may find potentially damaging alternatives. Gang membership, for example, may address an adolescent's need for safety and “belonging to” a group, close friendships and opportunities for exercising decision-making skills and responsibility. However, it also places young people at high risk for drug use and exposure to violence and crime. In contrast, positive developmental opportunities meet adolescent needs while decreasing their exposure to destructive influences and reducing their involvement in risky behaviors.

A rapidly changing society and a decreasing sense of community have reduced or eliminated many of the traditional ways that young people receive the support they need to move toward maturity and self-sufficiency. Additionally, increasing violence and hopelessness in many neighborhoods threaten young people's welfare and make developmental opportunities scarce in some communities. In such environments, a commitment by a community to creating programs and services that meet young people's developmental needs is critical.

Programs with a youth development focus offer young people the skills, knowledge and community support they need to function effectively. The youth development approach is designed to focus on the positive outcomes desired by young people, not the negative outcomes that adults hope to prevent. The distinction may appear subtle, but it is a significant shift in policy and practice. Youth development moves the dialogue from one that focuses on youth with problems to one in which youth are seen as resources. In addition, youth development envisions a community effort to determine and provide, in concert with youth, the assistance and support youth need to grow into healthy adults. With all of these principles in mind FYSB began to invest resources in helping States make a difference in the lives of their young people.

Beginning in 1999, the nine State agencies listed below were awarded grants by FYSB, under the Youth Development State Collaboration Demonstration Project, to establish collaboration efforts around youth development at the State level.

• Department of Economic Security, State of Arizona

• Department of Human Services, State of Colorado

• Office of Policy and Management, State of Connecticut

• Department of Human Rights, State of Iowa

• Department of Human Resources, State of Maryland

• Executive Office of Health and Human Services, Commonwealth of Massachusetts

• Health and Human Services, State of Nebraska

• Office of Children and Family Services, State of New York

• Commission on Children and Families, State of Oregon

In 2001, a second cohort of four States agencies was also funded to pursue the goals of this demonstration as follows:

• Bureau of Youth Services and Delinquency Prevention, State of Illinois

• Indiana Human Resources Investment Council, State of Indiana

• Louisiana Workforce Commission, State of Louisiana

• University of Kentucky, Cooperative Extension 4H Program, State of Kentucky

In the ensuing years, these States' activities have included: Assessing existing statewide policies and procedures to determine how best to integrate youth development principles into current approaches; providing training on the youth development approach; involving young people in program and policy development; organizing region, State, or community-wide conferences and forums; making subgrants that promote youth development activities; creating new outlets for sharing information on youth development such as home pages on the Internet's World Wide Web; developing and supporting statewide coalitions of agencies serving runaway and homeless youth; and identifying data to measure positive outcomes.

The limited competition among the same 13 State organizations with demonstration projects solicited in this competitive area seeks to build on their prior work accomplishments to create new and stronger partnerships between the State agencies listed above and one local jurisdiction or Tribe, as a potential model for identifying effective practices that can guide future State and local intergovernmental partnerships and collaborative efforts to promote the positive development of young people.

Eligible Applicants: This competition is limited to the 13 State organizations that are currently participating in the Youth Development State Collaboration Demonstration Project funded by FYSB. They are: Arizona (AZ), Colorado (CO), Connecticut (CT), Iowa (IA), Illinois (IL), Indiana (IN), Kentucky (KY), Louisiana (LA), Massachusetts (MA), Maryland (MD), Nebraska (NE), New York (NY), and Oregon (OR).

Funding: Depending on the availability of funds the Family and Youth Services Bureau expects to make up to 13 awards to support State and local collaborations according to the following schedule:

• Year 1 Planning Phase Grant: FYSB expects to award up to $120,000 to each grantee to support the 12-month Planning Phase.

• Years 2-5 Implementation Phase Grants: Over the next four years, FYSB expects to award up to $1,000,000 ($250,000/yr) to each grantee to support the implementation of programs and activities proposed in their proposed plans and approved by FYSB.

Federal Share of Project Costs: Applicants may apply for support in accordance with the schedule outlined above for a total of $1,120,000 over the 5-year demonstration period ($120,000 in year 1; and $1,000,000 over the four years—2 through 5).

Applicant Share of Project Costs: The applicant must provide a non-Federal share or match of at least ten percent (10%) of the Federal funds awarded. (There may be certain exceptions for Tribes with “638” funding pursuant to Public Law 93-638, under which certain Federal grants may qualify as matching funds for other Federal grant programs, e.g., those which contribute to the purposes for which grants under section 638 were made.) The non-Federal share may be met by cash or in-kind contributions, although applicants are encouraged to meet their match requirements through cash contributions. For example, an applicant requesting $120,000 must match the federal funds with a non-Federal share of at least $12,000. It is expected that these matching resources will be budgeted for and made available in the same 12-month program period in which federal resources are provided. Grantees will be held accountable for commitments of required non-Federal funds. Failure to provide the required match will result in a disallowance of Federal funds.

Duration of Project: This announcement solicits applications for Positive Youth Development State and Local Collaboration Demonstration Projects of up to five years (60-month project period) beginning September 30, 2003 through September 29, 2008. Grant awards will be for a one-year (12-month) budget period. Applications for continuation grants beyond the one-year budget period, but within the longer term project period, will be entertained in subsequent years on a noncompetitive or competitive basis, subject to the availability of funds, satisfactory progress of the grantee and determination that continued funding would be in the interest of the government.

Summary of Evaluation Criteria for Competitive Areas A, B, C and D (BCP, TLP, SOP and SLCDP)

Criterion 1: Objectives and Need for Assistance (15 points)

Applications will be judged on how clearly they identify the physical, economic, social, financial, institutional, and/or other problem(s) requiring a solution. The need for assistance must be demonstrated and the principal and subordinate objectives of the project must be clearly Stated. Applications will need to specify the goals and objectives of the project and how implementation will fulfill the purposes of the program. Applications should describe the conditions of youth and families in the area to be served; the incidence and characteristics of runaway, homeless or street youth and their families; the existing support systems for at-risk youth and families in the area, including other agencies providing services to runaway and homeless youth in the area.

Applicants must refer to the specific evaluation criteria for each competitive area contained in the full Program Announcement in order to adequately prepare their applications.

Criterion 2: Results or Benefits Expected (20 points)

Applications will be judged on how clearly they identify the results and benefits to be derived, specify services to be provided, who will receive services, where and how these services will be provided, and how the services will benefit the youth families and the community to be served.

Applicants must refer to the specific evaluation criteria for each competitive area contained in the full Program Announcement in order to adequately prepare their applications.

Criterion 3: Approach (35 points)

Applications will be judged on how clearly they outline a plan of action which: Describes the scope and detail of how the proposed work will be accomplished; accounts for all functions or activities identified in the application; cites factors which might accelerate or decelerate the work and reasons for taking the proposed approach rather than others. Applications are encouraged to describe any unusual features of the project such as design or technological innovations, reductions in cost or time, or extraordinary social and community involvement.

Applications will be judged on the extent to which they describe the program's youth development approach or philosophy and indicate how it underlies and integrates all proposed activities. Applicants will be expected to list organizations, cooperating entities, consultants, or other key individuals who will work on the project along with a short description of the nature of their effort or contribution; describe formal service linkages and plans for coordination with other agencies; describe plans for conducting outreach and encouraging awareness of and sensitivity to the diverse needs of runaway and homeless youth who represent particular ethnic, religious and racial backgrounds and sexual orientations. Applicants are encouraged to describe the type, capacity and staff supervision of the shelter that will be available for youth.

Applicants must refer to the specific evaluation criteria for each competitive area contained in the full Program Announcement in order to adequately prepare their applications.

Criterion 4: Staff and Position Data (10 points)

Applicants will be judged on whether they provide a resume and biographical sketch for each key person appointed and a job description for each vacant key position. A biographical sketch will also be required for new key staff as appointed. Applicants will be expected to list organizations and consultants who will work on the program along with a short description of the nature of their effort or contribution.

Applicants will be expected to provide information on plans for training project staff as well as staff of cooperating organizations and individuals and State the expected or estimated ratio of staff to youth.

Applicants must refer to the specific evaluation criteria for each competitive area contained in the full Program Announcement in order to adequately prepare their applications.

Criterion 5: Organizational Profile (10 points)

Applicants will be expected to provide information on the applicant organization(s) and cooperating partners such as organizational charts, financial Statements, audit reports or Statements from CPAs/Licensed Public Accountants. Any non-profit organization submitting an application must submit proof of its non-profit status in its application at the time of submission.

Applicants will be expected to provide a plan for project continuance beyond grant support, including a plan for securing resources and continuing project activities after Federal assistance has ceased and an annotated listing of applicant's funding sources. Such plans should include written agreements, if applicable, between grantees and subgrantees or subcontractors or other cooperating entities and letters of support and statements from community, public and commercial leaders that support the project proposed for funding.

Applicants must refer to the specific evaluation criteria for each competitive area contained in the full Program Announcement in order to adequately prepare their applications.

Criterion 6: Budget and Budget Justification (10 points)

Applicants will be expected to provide a detailed line item budget and a narrative budget justification that describes how the categorical costs are derived. Applicants will be judged on how clearly they discuss the necessity, reasonableness, and allocability of the proposed costs and how clearly they describe the fiscal control and accounting procedures that will be used to ensure prudent use, proper disbursement and accurate accounting of funds received.

Applicants must refer to the specific evaluation criteria for each competitive area contained in the full Program Announcement in order to adequately prepare their applications.

Part II. Notification Under Executive Order 12372—State Single Point of Contact (SPOC)

This program is covered under Executive Order (E.O.) 12372, “Intergovernmental Review of Federal Programs”, and 45 CFR part 100, “Intergovernmental Review of Department of Health and Human Services Programs and Activities”. Under the Order, States may design their own processes for reviewing and commenting on proposed Federal assistance under covered programs. (Note: State/territory participation in the intergovernmental review process does not signify applicant eligibility for financial assistance under a program. A potential applicant must meet the eligibility requirements of the program for which it is applying prior to submitting an application to its SPOC, if applicable, or to ACF.)

As of January 2003, of the most recent SPOC list, the following jurisdictions have elected not to participate in the Executive Order process. Applicants from these jurisdictions or for projects administered by Federally-recognized Indian tribes need take no action in regard to E.O. 12372: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447. The official list, including addresses, of the jurisdictions elected to participate in E.O. 12372 can be found at http://www.whitehouse.gov/omb/grants/spoc.html.

Note: Inquiries about obtaining a Federal grant should not be sent to OMB.

Dated: April 2, 2003.
Frank Fuentes,
Deputy Commissioner, Administration on Children, Youth and Families.

[FR Doc. 03-8430 Filed 4-7-03; 8:45 am]

BILLING CODE 4184-01-P